NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE:

Friday, May 31, 2019 at 12:00-12:30 p.m. EDT

Thursday, June 6, 2019 at 2:00-2:30 p.m. EDT

Friday, June 7, 2019 at 11:30 a.m.-12:00 noon EDT

PLACE: These meetings will be held by teleconference at the National Science Foundation, 2415 Eisenhower Avenue, Alexandria, VA 22314. An audio link will be available for the public. Members of the public must contact the Board Office to request the public audio link by sending an email to nationalsciencebrd@nsf.gov at least 24 hours prior to the teleconference.

STATUS: Open.

MATTERS TO BE CONSIDERED:

Friday, May 31, 2019: Committee chair's remarks; discussion of the draft Science and Engineering Indicators 2020 Thematic Report 3, S&E Labor Force.

Thursday, June 6, 2019: Committee chair's remarks; discussion of the draft Science and Engineering Indicators 2020 Thematic Report 1, K-12 Education.

Friday, June 7, 2019: Committee chair's remarks; discussion of the draft Science and Engineering Indicators 2020 Thematic Report 2, Higher Education.

CONTACT PERSON FOR MORE INFORMATION: Point of contact for these meetings is: Reba Bandyopadhyay, (rbandyop@nsf.gov), 703/292-7000.

Meeting information and updates (time, place, subject matter or status of meeting) may be found at http://www.nsf.gov/nsb/meetings/notices.jsp#sunshine. Please refer to the National Science Board website www.nsf.gov/nsb for additional information.

Christopher Blair,
Executive Assistant, National Science Board Office.

[FR Doc. 2019-11155 Filed 5-23-19; 4:15 pm]

BILLING CODE 7555-01-P